DEPARTMENT OF COMMERCE

National Oceanic and Atmospheric Administration

[I.D. 031406F]

Gulf of Mexico Fishery Management Council; Public Meetings

AGENCY: National Marine Fisheries Service (NMFS), National Oceanic and Atmospheric Administration (NOAA), Commerce.

ACTION: Notice of Ecosystem Scientific and Statistical Committee (SSC) Meeting via Conference Call.

SUMMARY: The Gulf of Mexico Fishery Management Council (Council) will convene its Ecosystem SSC via Conference Call to discuss planning of an ecosystem modeling workshop to be held by the SSC later in the year.

DATES: The Conference Call will be held on April 5, 2006.

ADDRESSES: Meeting address: The meeting will be held via conference call and listening stations will be available. For specific locations see SUPPLEMENTARY INFORMATION.

Council address: Gulf of Mexico Fishery Management Council, 2203 North Lois Avenue, Suite 1100, Tampa, Florida 33607.

FOR FURTHER INFORMATION CONTACT: Mr. Steven Atran, Population Dynamics Statistician, Gulf of Mexico Fishery Management Council; telephone: 813.348.1630.

SUPPLEMENTARY INFORMATION: The Gulf of Mexico Fishery Management Council (Council) will convene its Ecosystem Scientific and Statistical Committee (SSC) to discuss planning of an ecosystem modeling workshop to be held by the SSC later in the year. Specifically, the objectives of the conference call are to identify one, two, or three multispecies/ecosytem modeling projects that could be used to address some of the key policy issues facing the Council, and to identify ecosystem modeling experts who could be contracted to assist the SSC and to perform some of the pre-analyses prior to the workshop.

The conference call will begin at 10 a.m. EST and conclude no later than 11 a.m. EST. Listening stations are available at the following locations: The Gulf Council office (see ADDRESSES), and the National Marine Fisheries Service (NMFS) offices as follows: Galveston, Texas, 4700 Avenue U, Galveston, Texas 77551, Rhonda O'Toole, 409.766.3500; St. Petersburg, Florida, 263 13th Avenue South, St. Petersburg, FL 33701, Barbara Niswander, 727.824.5305; and Panama City, Florida, 3500 Delwood Beach Road, Panama City, Florida 32408, Susanne Pacelli, 850.234.6541.

Copies of any related meeting materials can be obtained by calling the Council office at 813.348.1630.

These meetings are physically accessible to people with disabilities. Requests for sign language interpretation or other auxiliary aids should be directed to Dawn Aring at the Council (see ADDRESSES) at least five working days prior to the meeting.

Dated: March 15, 2006.
Tracey L. Thompson,
Acting Director, Office of Sustainable Fisheries, National Marine Fisheries Service.

[FR Doc. E6-3967 Filed 3-17-06; 8:45 am]

BILLING CODE 3510-22-S